DEPARTMENT OF EDUCATION

[CFDA No. 84.031A]

Strengthening Institutions Program

AGENCY: Office of Postsecondary Education, Department of Education.

ACTION: Notice of intent to fund down the fiscal year (FY) 2008 grant slate for the Strengthening Institutions Program.

SUMMARY: The Secretary intends to use the grant slate developed in FY 2008 for the Strengthening Institutions Program authorized by Title III, Part A of the Higher Education Act of 1965, as amended (HEA), to make new grant awards in FY 2009. The Secretary takes this action because a significant number of high-quality applications remain on last year's grant slate. We expect to use an estimated $19,308,000 for new awards in FY 2009. The actual level of funding depends on final Congressional action.

FOR FURTHER INFORMATION CONTACT: Darlene B. Collins, U.S. Department of Education, 1990 K Street, NW., 6th Floor, Washington, DC 20006-6450. Telephone: (202) 502-7576 or via Internet: darlene.collins@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION:

Background

On April 22, 2008, we published a notice in the Federal Register (73 FR 21614) inviting applications for new awards under the Strengthening Institutions Program.

In response to this notice, we received a significant number of high-quality applications for grants under the Strengthening Institutions Program and made 61 new grant awards. However, many applications that were awarded high scores by peer reviewers did not receive funding in FY 2008.

Limited funding may be available for new awards under this program in FY 2009. To conserve funding that would have been required for a peer review of new grant applications and to instead use those funds to support grant activities, we will select grantees in FY 2009 from the existing slate of applicants. This slate was developed during the FY 2008 competition using the selection criteria, application requirements, and definitions referenced in the Federal Register notice.

Note: To be eligible to receive a grant under the process outlined in this notice all Individual Development grant applicants that received a peer review score of 89.33 or above during the FY 2008 Title III, Part A Strengthening Institutions Program competition and that did not receive funding in the FY 2008 competition for the Strengthening Institutions Program MUST apply for designation as an eligible institution for the programs authorized by Title III and Title V of the HEA. The notice inviting applications for designation as an eligible institution under the Title III and Title V programs was published in the Federal Register on January 21, 2009 (74 FR 3579). For those applicant institutions seeking eligibility to apply for funds under the Title III and Title V programs, the deadline for applications was February 20, 2009.

Program Authority: 20 U.S.C. 1057-1059d.

Electronic Access to This Document

You may view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education to perform the functions of the Assistant Secretary for Postsecondary Education.

Dated: February 25, 2009.
Daniel T. Madzelan,
Director, Forecasting and Policy Analysis.

[FR Doc. E9-4360 Filed 2-27-09; 8:45 am]

BILLING CODE 4000-01-P